NUCLEAR REGULATORY COMMISSION

[Docket Nos. STN 50-454, STN 50-455, 50-373, 50-374, 50-254, and 50-265]

Exelon Generation Company, LLC; Byron Station, Units 1 and 2, LaSalle County Station, Units 1 and 2, Quad Cities Nuclear Power Station, Units 1 and 2, Environmental Assessment and Finding of No Significant Impact

The U.S. Nuclear Regulatory Commission (NRC) is considering issuance of an amendment to Facility Operating License Nos. NPF-37 and NPF-66, issued to Exelon Generation Company, LLC (the licensee), for operation of the Byron Station, Units 1 and 2, located in Ogle County, Illinois; for Facility Operating License Nos. NPF-11 and NPF-18, issued to the licensee, for operation of LaSalle County Station, Units 1 and 2, located in LaSalle County, Illinois; and for Facility Operating License Nos. DPR-29 and DPR-30, issued to the licensee, for operation of the Quad Cities Nuclear Power Station, Units 1 and 2, located in Rock Island County, Illinois. Therefore, as required by 10 CFR 51.21, the NRC has prepared this environmental assessment. For the reasons set forth in this environmental assessment, the NRC is making a finding of no significant impact.

Environmental Assessment

Identification of the Proposed Action

The proposed action would revise Appendix B, “Environmental Protection Plan (Non-Radiological),” of the licenses to remove a parenthetical reference to a superseded section of 10 CFR Part 51.

The proposed action is in accordance with the licensee's application dated September 27, 2002.

The Need for the Proposed Action

The proposed change is editorial in nature. An amendment is required because the current parenthetical reference to 10 CFR 51.5(b)(2) in Appendix B is no longer applicable, since this CFR reference was superseded in 1984 by a complete revision of 10 CFR Part 51 (49 FR 9381). The subject matter of the original referenced portion of the regulations was not carried over into the reformatted version during the revision.

Environmental Impacts of the Proposed Action

The NRC has completed its evaluation of the proposed action and concludes that there are no significant adverse environmental impacts associated with the proposed action. The proposed change is editorial in nature.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any resource different from those previously considered in the Final Environmental Statements for the Byron Station, Units 1 and 2, dated April 1982; for the LaSalle County Station, Units 1 and 2, dated November 1978; and for the Quad Cities Nuclear Power Station, Units 1 and 2, dated September 1972.

Agencies and Persons Consulted

On November 13, 2002, the staff consulted with the Illinois State official, Mr. F. Niziolek of the Department of Nuclear Safety, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 27, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 2nd day of January 2003.
For the Nuclear Regulatory Commission.
Carl F. Lyon,
Project Manager, Section 2, Project Directorate III, Division of Licensing Project Management, Office of Nuclear Reactor Regulation.

[FR Doc. 03-319 Filed 1-7-03; 8:45 am]

BILLING CODE 7590-01-P